INTERNATIONAL TRADE COMMISSION

[Investigation Nos. 731-TA-753, 754, 756 (Third Review)]

Cut-to-Length Carbon Steel Plate From China, Russia, and Ukraine: Notice of Commission Determinations To Conduct Full Five-Year Reviews

AGENCY: United States International Trade Commission.

ACTION: Notice.

SUMMARY: The Commission hereby gives notice that it will proceed with full reviews pursuant to section 751(c) of the Tariff Act of 1930 (19 U.S.C. 1675(c)) to determine whether revocation of the antidumping duty order on cut-to-length carbon steel plate from China or the termination of the suspended investigations on cut-to-length carbon steel plate from Russia and Ukraine would be likely to lead to continuation or recurrence of material injury within a reasonably foreseeable time. A schedule for the reviews will be established and announced at a later date. For further information concerning the conduct of these reviews and rules of general application, consult the Commission's Rules of Practice and Procedure, part 201, subparts A through E (19 CFR part 201), and part 207, subparts A, D, E, and F (19 CFR part 207).

DATES: Effective January 5, 2015.

FOR FURTHER INFORMATION CONTACT: Justin Enck (202-205-3363), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On January 5, 2015, the Commission determined that it should proceed to full reviews in the subject five-year reviews pursuant to section 751(c) of the Act. The Commission found that the domestic interested party group response to its notice of institution (79 FR 59294, October 1, 2014) was adequate. The Commission found that respondent group responses were adequate with respect to the suspended investigations on Russia and Ukraine but inadequate with respect to the order on China. The Commission determined that it will proceed to a full review of the order on China to promote administrative efficiency in light of its decision to proceed to full reviews with respect to the suspended investigations on Russia and Ukraine. A record of the Commissioners' votes, the Commission's statement on adequacy, and any individual Commissioner's statements will be available from the Office of the Secretary and at the Commission's Web site.

Authority: These reviews are being conducted under authority of title VII of the Tariff Act of 1930; this notice is published pursuant to section 207.62 of the Commission's rules.

By order of the Commission.
Issued: January 13, 2015.
William R. Bishop,
Supervisory Hearings and Information Officer.

[FR Doc. 2015-00585 Filed 1-15-15; 8:45 am]

BILLING CODE P